DEPARTMENT OF ENERGY

Federal Energy Regulatory Commission

Combined Notice of Filings #1

Take notice that the Commission received the following exempt wholesale generator filings:

Docket Numbers: EG12-59-000.

Applicants: Copper Mountain Solar 2, LLC.

Description: Self-Certification of EG or FC of Copper Mountain Solar 2, LLC in EG12-59.

Filed Date: 4/18/12.

Accession Number: 20120418-5245.

Comments Due: 5 p.m. ET 5/9/12.

Take notice that the Commission received the following electric rate filings:

Docket Numbers: ER10-1806-004; ER11-1939-002; ER11-2754-002.

Applicants: AP Gas & Electric (PA), LLC, AP Gas & Electric (TX), LLC, AP Holdings, LLC.

Description: Change-in-Status Report of AP Holdings, LLC, et al.

Filed Date: 4/18/12.

Accession Number: 20120418-5242.

Comments Due: 5 p.m. ET 5/9/12.

Docket Numbers: ER10-3082-002.

Applicants: Motiva Enterprises LLC.

Description: Supplement to Notice of Change in Status of Motiva Enterprises LLC.

Filed Date: 4/18/2012.

Accession Number: 20120418-5260.

Comment Date: 5 p.m. ET 5/9/12.

Docket Numbers: ER12-165-001.

Applicants: Midwest Independent Transmission System Operator, Inc.

Description: G746 Compliance filing to be effective 12/21/2011.

Filed Date: 4/18/12.

Accession Number: 20120418-5163.

Comments Due: 5 p.m. ET 5/9/12.

Docket Numbers: ER12-1552-000.

Applicants: Southwest Power Pool, Inc.

Description: Errata Filing in Docket No. ER12-1552—Implement Balanced Portfolio Transfers to be effective N/A.

Filed Date: 4/18/12.

Accession Number: 20120418-5127.

Comments Due: 5 p.m. ET 5/9/12.

Docket Numbers: ER12-1562-000.

Applicants: Somerset Operating Company, LLC.

Description: MBR Tariff to be effective 4/18/2012.

Filed Date: 4/18/12.

Accession Number: 20120418-5182.

Comments Due: 5 p.m. ET 5/9/12.

Docket Numbers: ER12-1563-000.

Applicants: Cayuga Operating Company, LLC.

Description: MBR Petition to be effective 4/18/2012.

Filed Date: 4/18/12.

Accession Number: 20120418-5184.

Comments Due: 5 p.m. ET 5/9/12.

Docket Numbers: ER12-1564-000.

Applicants: Midwest Independent Transmission System Operator, Inc.

Description: 04-18-12 MVP Methodology Compliance to be effective 6/18/2012.

Filed Date: 4/18/12.

Accession Number: 20120418-5195.

Comments Due: 5 p.m. ET 5/9/12.

Docket Numbers: ER12-1565-000.

Applicants: Fowler Ridge Wind Farm LLC.

Description: Certificate of Concurrence CFA for March 2012 No. 4 to be effective 4/18/2012.

Filed Date: 4/18/12.

Accession Number: 20120418-5209.

Comments Due: 5 p.m. ET 5/9/12.

Docket Numbers: ER12-1566-000.

Applicants: Copper Mountain Solar 2, LLC.

Description: Copper Mountain Solar 2 LLC FERC Electric Tariff No. 1 Market-Based Rates Tariff to be effective 4/18/2012.

Filed Date: 4/18/12.

Accession Number: 20120418-5225.

Comments Due: 5 p.m. ET 5/9/12.

Docket Numbers: ER12-1567-000.

Applicants: Southern California Edison Company.

Description: Letter Agreement with City of Pasadena to be effective 4/20/2012.

Filed Date: 4/19/12.

Accession Number: 20120419-5003.

Comments Due: 5 p.m. ET 5/10/12.

Docket Numbers: ER12-1568-000.

Applicants: Southern California Edison Company.

Description: Amended SGIA SERV AG SCE-TDBU SCE-GPS 13550 Valley Bl Fontana Roof Top Solar Proj to be effective 4/20/2012.

Filed Date: 4/19/12.

Accession Number: 20120419-5004.

Comments Due: 5 p.m. ET 5/10/12.

Docket Numbers: ER12-1569-000.

Applicants: Southwest Power Pool, Inc.

Description: Southwest Power Pool, Inc.'s Notice of Cancellation of Large Generator Interconnection Agreement.

Filed Date: 4/18/12.

Accession Number: 20120418-5251.

Comments Due: 5 p.m. ET 5/9/12.

Take notice that the Commission received the following open access transmission tariff filings:

Docket Numbers: OA07-19-008; OA07-43-009; ER07-1171-009.

Applicants: Arizona Public Service Company.

Description: Arizona Public Service Company submits its annual compliance report on penalty assessments and distributions.

Filed Date: 4/16/12.

Accession Number: 20120416-5299.

Comments Due: 5 p.m. ET 5/7/12.

Docket Numbers: OA07-44-006.

Applicants: El Paso Electric Company.

Description: Report of El Paso Electric Company on Operational Penalty Distributions.

Filed Date: 4/18/12.

Accession Number: 20120418-5257.

Comments Due: 5 p.m. ET 5/9/12.

Docket Numbers: OA08-96-006.

Applicants: Southern Company Services, Inc.

Description: Report of Penalty Assessments and Distributions in accordance with Order Nos. 890 and 890-A and Compliance Report of Southern Company Services, Inc.

Filed Date: 4/17/12.

Accession Number: 20120417-5220.

Comments Due: 5 p.m. ET 5/8/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 19, 2012.
Nathaniel J. Davis, Sr.,
Deputy Secretary.

[FR Doc. 2012-10182 Filed 4-26-12; 8:45 am]

BILLING CODE 6717-01-P